DEPARTMENT OF COMMERCE

International Trade Administration

[A-570-106]

Wooden Cabinets and Vanities and Components Thereof From the People's Republic of China: Corrected Notice of Final Affirmative Determination of Sales at Less Than Fair Value

AGENCY: Enforcement and Compliance, International Trade Administration, Department of Commerce.

SUMMARY: On February 28, 2020, the Department of Commerce (Commerce) published its final determination in the sales at less-than-fair-value investigation of wooden cabinets and vanities and components thereof from the People's Republic of China (China). However, the notice was not printed in the Federal Register as Commerce intended. This notice corrects the resultant punctuation errors in company names that occurred in the publication.

DATES: Applicable March 31, 2020.

FOR FURTHER INFORMATION CONTACT: Rachel Greenberg, AD/CVD Operations, Office V, Enforcement and Compliance, International Trade Administration, U.S. Department of Commerce, 1401 Constitution Avenue NW, Washington, DC 20230; telephone: (202) 482-0652.

SUPPLEMENTARY INFORMATION:

Background

On February 28, 2020, Commerce published the Final Determination.¹ However, the Federal Register notice stating the names of the producer-exporter combination rates was not printed as Commerce intended. Various company names contained inadvertent punctuation errors. Commerce is hereby correcting the Final Determination to include the correct punctuation in certain company names.

¹ See Wooden Cabinets and Vanities and Components Thereof from the People's Republic of China: Final Affirmative Determination of Sales at Less Than Fair Value, 85 FR 11953 (February 28, 2020) (Final Determination), and accompanying Issues and Decision Memorandum.

Scope of the Investigation

The scope of this investigation has not changed from that stated in the Final Determination.

Correction to Final Determination

The corrected producer-exporter combination rates are as follows:

Exporter | Producer | Estimated weighted- average dumping margin (percent) | Cash deposit rate (adjusted for subsidy offsets) (percent)
The Ancientree Cabinet Co., Ltd | The Ancientree Cabinet Co., Ltd | 4.37 | 0.00
Dalian Meisen Woodworking Co., Ltd | Dalian Meisen Woodworking Co., Ltd | 262.18 | 251.64
Foremost Worldwide Company Limited | Rizhao Foremost Woodwork Manufacturing Company, Ltd | 101.46 | 90.92
Foremost Worldwide Company Limited | Henan AiDiJia Furniture Co., Ltd | 101.46 | 90.92
Foremost Worldwide Company Limited | Suzhou Weiye Furniture Co., Ltd | 101.46 | 90.92
Foremost Worldwide Company Limited | Changsha Minwan Furniture Manufacturing Co., Ltd | 101.46 | 90.92
ANHUI JIANLIAN WOOD PRODUCTS CO., LTD | ANHUI JIANLIAN WOOD PRODUCTS CO., LTD | 48.50 | 37.96
Anhui Swanch Cabinetry Co., Ltd | Anhui Swanch Cabinetry Co., Ltd | 48.50 | 37.96
ANHUI XINYUANDA CUPBOARD CO., LTD | ANHUI XINYUANDA CUPBOARD CO., LTD | 48.50 | 37.96
Beijing Oulu Jinxin International Trade Co., Ltd | Beijing Oulu Jinxin International Trade Co., Ltd | 48.50 | 37.96
Boloni Smart Home Decor (Beijing) Co., LTD | Boloni Smart Home Decor (Beijing) Co., LTD | 48.50 | 37.96
BRENTRIDGE HOLDING CO., LTD | ZHOUSHAN FOR-STRONG WOOD CO., LTD | 48.50 | 37.96
Caoxian Brothers Hengxin Wood Industry Co., Ltd | Caoxian Brothers Hengxin Wood Industry Co., Ltd | 48.50 | 37.96
Changyi Zhengheng Woodwork Co., Ltd | Changyi Zhengheng Woodwork Co., Ltd | 48.50 | 37.96
CHAOZHOU YAFENG BATHROOM EQUIPMENT CO., LTD | CHAOZHOU YAFENG BATHROOM EQUIPMENT CO., LTD | 48.50 | 37.96
China Friend Limited | Dongming Sanxin Wood Industry Co., Ltd | 48.50 | 37.96
Dalian Jiaye Wood Products Co., Ltd | Dalian Jiaye Wood Products Co., Ltd | 48.50 | 37.96
Dalian Xingsen Wooden Products Co., Ltd | Dalian Xingsen Wooden Products Co., Ltd | 48.50 | 37.96
Dandong City Anmin Wooden Products Group Co., Ltd | Dandong City Anmin Wooden Products Group Co., Ltd | 48.50 | 37.96
Dandong Laroyal Cabinetry Co., Ltd | Dandong Laroyal Cabinetry Co., Ltd | 48.50 | 37.96
DEHK LIMITED | DIAM DISPLAY (CHINA) CO., LTD | 48.50 | 37.96
Deqing China-Africa Foreign Trade Port Co., Ltd | Suqian Welcomewood Products Co., Ltd | 48.50 | 37.96
Dewell Wooden Products Haian Co., Ltd | Dewell Wooden Products Haian Co., Ltd | 48.50 | 37.96
Dongguan American Parts Supplier Co., Ltd | Dongguan American Parts Supplier Co., Ltd | 48.50 | 37.96
Dongguan Niusaiqu Wood Industry Co., Ltd | Dongguan Niusaiqu Wood Industry Co., Ltd | 48.50 | 37.96
Dongguan Unique Life Furniture Co., Ltd. also known as Unique Life Furniture Co., Ltd (trade name) | Dongguan Unique Life Furniture Co., Ltd | 48.50 | 37.96
Dorbest Ltd | Rui Feng Woodwork (Dongguan) Co., Ltd | 48.50 | 37.96
EZIDONE DISPLAY CORPORATION LTD | EZIDONE DISPLAY CORPORATION LTD | 48.50 | 37.96
EZIDONE DISPLAY CORPORATION LTD | EZIDONE DISPLAY INC | 48.50 | 37.96
Forcer International Limited | QUFU XINYU FURNITURE CO., LTD | 48.50 | 37.96
Forcer International Limited | LINYI RUNKANG CABINET CO., LTD | 48.50 | 37.96
Forcer International Limited | BEIJING OULU JINXIN INTERNATIONAL TRADE CO., LTD | 48.50 | 37.96
Foshan City Shunde District Refined Furniture Co., Ltd. also known as Refined Furniture Co., Ltd. (trade name) | Foshan City Shunde District Refined Furniture Co., Ltd. also known as Refined Furniture Co., Ltd (trade name) | 48.50 | 37.96
Foshan Liansu building material Trading Co., Ltd | Guangdong Lesso Home Furnishing Co., Ltd | 48.50 | 37.96
FOSHAN NANHAI HONGZHOU WOOD CO., LTD | FOSHAN NANHAI HONGZHOU WOOD CO., LTD | 48.50 | 37.96
Foshan Shunde Yajiasi Kitchen Cabinet Co., Ltd | Foshan Shunde Yajiasi Kitchen Cabinet Co., Ltd | 48.50 | 37.96
FOSHAN SOURCEVER (CN) CO., LIMITED | FOSHAN DIBIAO BATHROOM CO., LTD | 48.50 | 37.96
FOSHAN SOURCEVER (CN) CO., LIMITED | FOSHAN MK HOME FURISHING CO., LTD | 48.50 | 37.96
FOSHAN SOURCEVER (CN) CO., LIMITED | PROUDER INDUSTRIAL LIMITED | 48.50 | 37.96
FOSHAN SOURCEVER (CN) CO., LIMITED | FOSHAN DEMAX SANITARY WARE CO., LTD | 48.50 | 37.96
FOSHAN SOURCEVER (CN) CO., LIMITED | HEBEI SHUANGLI FURNITURE CO., LTD | 48.50 | 37.96
FOSHAN SOURCEVER (CN) CO., LIMITED | ZHANGZHOU GUOHUI INDUSTRIAL & TRADE CO., LTD | 48.50 | 37.96
FOSHAN SOURCEVER (CN) CO., LIMITED | SHOUGUANG FUSHI WOOD CO., LTD | 48.50 | 37.96
FOSHAN SOURCEVER (CN) CO., LIMITED | Foshan Virtu Bathroom Furniture Ltd | 48.50 | 37.96
FOSHAN SOURCEVER (CN) CO., LIMITED | Guangdong Purefine Kitchen & Bath Technology Co., LTD | 48.50 | 37.96
FOSHAN SOURCEVER (CN) CO., LIMITED | KAIPING HONGITARYWARE TECHNOLOGY LTD | 48.50 | 37.96
Foshan Sourcever Company Limited | FOSHAN DIBIAO BATHROOM CO., LTD | 48.50 | 37.96
Foshan Sourcever Company Limited | FOSHAN MK HOME FURISHING CO., LTD | 48.50 | 37.96
Foshan Sourcever Company Limited | PROUDER INDUSTRIAL LIMITED | 48.50 | 37.96
Foshan Sourcever Company Limited | FOSHAN DEMAX SANITARY WARE CO., LTD | 48.50 | 37.96
Foshan Sourcever Company Limited | HEBEI SHUANGLI FURNITURE CO., LTD | 48.50 | 37.96
Foshan Sourcever Company Limited | ZHANGZHOU GUOHUI INDUSTRIAL & TRADE CO., LTD | 48.50 | 37.96
Foshan Sourcever Company Limited | SHOUGUANG FUSHI WOOD CO., LTD | 48.50 | 37.96
Foshan Sourcever Company Limited | Foshan Virtu Bathroom Furniture Ltd | 48.50 | 37.96
Foshan Sourcever Company Limited | Guangdong Purefine Kitchen & Bath Technology Co., LTD | 48.50 | 37.96
Foshan Sourcever Company Limited | KAIPING HONGITARYWARE TECHNOLOGY LTD | 48.50 | 37.96
Foshan Xinzhongwei Economic & Trade Co., Ltd | Foshan Lihong Furniture Sanitary Ware Co., Ltd | 48.50 | 37.96
FUJIAN DUSHI WOODEN INDUSTRY CO., LTD | FUJIAN DUSHI WOODEN INDUSTRY CO., LTD | 48.50 | 37.96
FUJIAN LEIFENG CABINETRY CO., LTD | FUJIAN LEIFENG CABINETRY CO., LTD | 48.50 | 37.96
Fujian Panda Home Furnishing Co., Ltd | Fujian Panda Home Furnishing Co., Ltd | 48.50 | 37.96
Fujian Senyi Kitchen Cabinet Co., Ltd | Fujian Senyi Kitchen Cabinet Co., Ltd | 48.50 | 37.96
Fuzhou Biquan Trading Co., Ltd | Biquan (Fujian) Group Co., Ltd | 48.50 | 37.96
Fuzhou CBM Import & Export Co., Ltd | Fuzhou CBM Import & Export Co., Ltd | 48.50 | 37.96
Fuzhou Desource Home Décor Co., Ltd | Fuzhou Desource Home Decor Co., Ltd | 48.50 | 37.96
FUZHOU LIMIN STONE PRODUCTS CO., LTD | Fuzhou YST Cabinet Co., Ltd | 48.50 | 37.96
FUZHOU MASTONE IMPORT & EXPORT CO., LTD | Fuzhou Yuansentai Cabinet Co., Ltd | 48.50 | 37.96
Fuzhou Minlian Wood Industry Co., Ltd | Fuzhou Minlian Wood Industry Co., Ltd | 48.50 | 37.96
FUZHOU SUNRISING HOME DECO MANUFACTURING CO., LTD | FUZHOU SUNRISING HOME DECO MANUFACTURING CO., LTD | 48.50 | 37.96
FUZHOU XINRUI CABINET CO., LTD | FUZHOU XINRUI CABINET CO., LTD | 48.50 | 37.96
Gaomi City Haitian Wooden Ware Co., Ltd | Gaomi City Haitian Wooden Ware Co., Ltd | 48.50 | 37.96
GAOMI HONGTAI HOME FURNITURE CO., LTD | GAOMI HONGTAI HOME FURNITURE CO., LTD | 48.50 | 37.96
Guangde Bozhong Trade Company, Ltd | Guangde Bozhong Trade Company, Ltd | 48.50 | 37.96
GUANGDONG CACAR KITCHEN TECHNOLOGY CO., LTD | GUANGDONG CACAR KITCHEN TECHNOLOGY CO., LTD | 48.50 | 37.96
Guangdong G-Top Import and Export Co., Ltd | Foshan Shunde Rongao Furniture CO., LTD | 48.50 | 37.96
Guangzhou Nuolande Import and Export Co., Ltd | Guangzhou Nuolande Import and Export Co., Ltd | 48.50 | 37.96
Haiyang Kunlun Wood Co., Ltd | Haiyang Kunlun Wood Co., Ltd | 48.50 | 37.96
Hangzhou Bestcraft Sanitary Equipments Co., Ltd | Hangzhou Bestcraft Sanitary Equipments Co., Ltd | 48.50 | 37.96
Hangzhou Entop Houseware Co., Ltd | Jinhua Aonika Sanitary Ware Co., Ltd | 48.50 | 37.96
Hangzhou Entop Houseware Co., Ltd | Hangzhou Bestcraft Sanitary Equipments Co., Ltd | 48.50 | 37.96
Hangzhou Hansen Sanitary Ware Co., Ltd | Hangzhou Hansen Sanitary Ware Co., Ltd | 48.50 | 37.96
Hangzhou Hoca Kitchen & Bath Products Co., Ltd | Hangzhou Hoca Kitchen & Bath Products Co., Ltd | 48.50 | 37.96
Hangzhou Home Dee Sanitary Ware Co., Ltd | Hangzhou Home Dee Sanitary Ware Co., Ltd | 48.50 | 37.96
Hangzhou Oulang Bathroom Equipment Co., Ltd | Hangzhou Oulang Bathroom Equipment Co., Ltd | 48.50 | 37.96
Hangzhou Royo Import & Export Co., Ltd | Jinhua Aonika Sanitary Ware Co., Ltd | 48.50 | 37.96
Hangzhou Royo Import & Export Co., Ltd | Hangzhou Yuxin Sanitary Ware Co., Ltd | 48.50 | 37.96
Hangzhou Royo Import & Export Co., Ltd | Hangzhou Fuyang Beautiful Sanitary Ware Co., Ltd | 48.50 | 37.96
Hangzhou Sunlight Sanitary Co., Ltd | Hangzhou Sunlight Sanitary Co., Ltd | 48.50 | 37.96
Hangzhou Weinuo Sanitary Ware Co., Ltd | PINGHU AIPA SANITARY WARE CO., LTD | 48.50 | 37.96
Hangzhou Weinuo Sanitary Ware Co., Ltd | HANGZHOU QILONG SANITARY WARE CO., LTD | 48.50 | 37.96
Hangzhou Xinhai Sanitary Ware Co., Ltd | Hangzhou Xinhai Sanitary Ware Co., Ltd | 48.50 | 37.96
Hangzhou Yewlong Import & Export Co., Ltd | Hangzhou Yewlong Industry Co., Ltd | 48.50 | 37.96
Hangzhou Zhuangyu Import & Export Co., Ltd | Hangzhou Zhuangyu Import & Export Co., Ltd | 48.50 | 37.96
Henan Aotin Home Furnishing Co., Ltd | Henan Aotin Home Furnishing Co., Ltd | 48.50 | 37.96
Heyond Cabinet Co., Ltd | Heyond Cabinet Co., Ltd | 48.50 | 37.96
Homestar Corporation | Homestar Corporation | 48.50 | 37.96
HONG KONG JIAN CHENG TRADING CO., LIMITED | ZHONGSHAN YAYUE FURNITURE CO., LTD | 48.50 | 37.96
Xiamen Honglei Imp. & Exp. Co., Ltd. also known as Honglei (Xiamen) Stone Co., Ltd | Changtai Guanjia Industry & Trade Company Co., Ltd | 48.50 | 37.96
Xiamen Honglei Imp. & Exp. Co., Ltd. also known as Honglei (Xiamen) Stone Co., Ltd | Zhangzhou Huihua Industry and Trade Co., Ltd | 48.50 | 37.96
Xiamen Honglei Imp. & Exp. Co., Ltd. also known as Honglei (Xiamen) Stone Co., Ltd | Fujian Xinanlong Wood Industry Co., Ltd | 48.50 | 37.96
Honsoar New Building Material Co., Ltd | Shandong Honsoar Cabinet Materials Co., Ltd | 48.50 | 37.96
Hua Yin Trading Development Co., Ltd of Jiangmen City | Jianfa Wooden Co., Ltd | 48.50 | 37.96
Hua Yin Trading Development Co., Ltd of Jiangmen City | Heshan Yingmei Cabinets Co., Ltd | 48.50 | 37.96
Hua Yin Trading Development Co., Ltd of Jiangmen City | Hesha Feiqiu Cabinet Co., Ltd | 48.50 | 37.96
Huimin Hanlong Furniture Co., Ltd | Huimin Hanlong Furniture Co., Ltd | 48.50 | 37.96
HUISEN FURNITURE (LONG NAN) CO., LTD. also known as HUISEN FURNITURE (LONGNAN) CO., LTD | HUISEN FURNITURE (LONG NAN) CO., LTD. also known as HUISEN FURNITURE (LONGNAN) CO., LTD | 48.50 | 37.96
HUIZHOU MANDARIN FURNITURE CO., LTD | HUIZHOU MANDARIN FURNITURE CO., LTD | 48.50 | 37.96
Jiang Su Rongxin Cabinets Ltd | Jiang Su Rongxin Cabinets Ltd | 48.50 | 37.96
Jiangmen Kinwai Furniture Decoration Co., Ltd | Jiangmen Kinwai Furniture Decoration Co., Ltd | 48.50 | 37.96
Jiangmen Kinwai International Furniture Co., Ltd | Jiangmen Kinwai International Furniture Co., Ltd | 48.50 | 37.96
Jiangsu Beichen Wood Co., Ltd | Jiangsu Beichen Wood Co., Ltd | 48.50 | 37.96
Jiangsu Meijun Intelligent Home Co., Ltd | Jiangsu Meijun Intelligent Home Co., Ltd | 48.50 | 37.96
Jiangsu Pusite Furniture Co., Ltd | Jiangsu Pusite Furniture Co., Ltd | 48.50 | 37.96
Jiangsu Roc Furniture Industrial Co., Ltd | Jiangsu Roc Furniture Industrial Co., Ltd | 48.50 | 37.96
JIANGSU SUNWELL CABINETRY CO., LTD | JIANGSU SUNWELL CABINETRY CO., LTD | 48.50 | 37.96
JIANGSU WEISEN HOUSEWARE CO., LTD | JIANGSU WEISEN HOUSEWARE CO., LTD | 48.50 | 37.96
Jiangsu Xiangsheng Bedtime Furniture Co., Ltd | Jiangsu Xiangsheng Bedtime Furniture Co., Ltd | 48.50 | 37.96
Jiayuan (Xiamen) Industrial Co., Ltd | Jiayuan (Xiamen) Industrial Co., Ltd | 48.50 | 37.96
JINJIANG PERFECT GENERATION IMP. & EXP. CO., LTD | Homebi Technology Co., LTD | 48.50 | 37.96
King's Group Furniture (Enterprises) Co., Ltd | Zhongshan King's Group Furniture (ENTERPRISES) Co., Ltd | 48.50 | 37.96
KM Cabinetry Co., Limited | Zhongshan KM Cabinetry Co., Ltd | 48.50 | 37.96
Kunshan Baiyulan Furniture Co., Ltd | Kunshan Baiyulan Furniture Co., Ltd | 48.50 | 37.96
Kunshan Home Right Trade Corporation | Kunshan Fangs Furniture Co., Ltd | 48.50 | 37.96
LIANYUNGANG SUN RISE TECHNOLOGY CO., LTD | LIANYUNGANG SUN RISE TECHNOLOGY CO., LTD | 48.50 | 37.96
Linshu Meibang Furniture Co., Ltd | Linshu Meibang Furniture Co., Ltd | 48.50 | 37.96
Linyi Bomei Furniture Co., Ltd | Linyi Bomei Furniture Co., Ltd | 48.50 | 37.96
LINYI BONN FLOORING MANUFACTURING CO., LTD | LINYI BONN FLOORING MANUFACTURING CO., LTD | 48.50 | 37.96
Linyi Kaipu Furniture Co., Ltd | Linyi Kaipu Furniture Co., Ltd | 48.50 | 37.96
Linyi Runkang Cabinet Co., Ltd | Linyi Runkang Cabinet Co., Ltd | 48.50 | 37.96
Liu Shu Woods Product (Huizhou) Co., Ltd also known as Liu Shu Wood Products Co., Ltd (trade name) and Liu Shu Woods Product Co., Ltd (trade name) | Liu Shu Woods Product (Huizhou) Co., Ltd | 48.50 | 37.96
Master Door & Cabinet Co., Ltd | Master Door & Cabinet Co., Ltd | 48.50 | 37.96
Masterwork Cabinetry Company Limited | Shandong Compete Wood Co., Ltd | 48.50 | 37.96
Masterwork Cabinetry Company Limited | Linyi Zhongsheng Jiaju Zhuangshi Co., Ltd | 48.50 | 37.96
MEILIN WOOD PRODUCTS(DALIAN)CO., LTD | MEILIN WOOD PRODUCTS(DALIAN)CO., LTD | 48.50 | 37.96
Minhou Beite Home Decor Co., Ltd | Minhou Beite Home Decor Co., Ltd | 48.50 | 37.96
MJB Supply (Dalian) Co., Ltd | Mulin City Bamiantong Linyeju Jisen Wood | 48.50 | 37.96
MOREWOOD CABINETRY CO., LTD | MOREWOOD CABINETRY CO., LTD | 48.50 | 37.96
Nanjing Kaylang Co., Ltd | Nanjing Kaylang Co., Ltd | 48.50 | 37.96
Nantong Aershin Cabinets Co., Ltd | Nantong Aershin Cabinets Co., Ltd | 48.50 | 37.96
Nantong Ouming Wood Co., Ltd., also known as Nantong Ouming Wood Industry Co., Ltd | Nantong Ouming Wood Co., Ltd., also known as Nantong Ouming Wood Industry Co., Ltd | 48.50 | 37.96
NANTONG YANGZI FURNITURE CO., LTD | NANTONG YANGZI FURNITURE CO., LTD | 48.50 | 37.96
NINGBO KINGWOOD FURNITURE CO., LTD | NINGBO KINGWOOD FURNITURE CO., LTD | 48.50 | 37.96
NINGBO ROVSA HOME FURNISHING CO., LTD | NINGBO ROVSA HOME FURNISHING CO., LTD | 48.50 | 37.96
Ojans Company Limited | Foshan Shunde Ojans Intelligent Sanitary Ware Co., Ltd | 48.50 | 37.96
Oppein Home Group Inc | Oppein Home Group Inc | 48.50 | 37.96
PIZHOU OUYME IMPORT & EXPORT TRADE CO., LTD | XUZHOU OUMEC WOOD-BASED PANEL CO., LTD | 48.50 | 37.96
Pneuma Asia Sourcing & Trading Co. LIMITED | Dalian Tianxin Home Product Co., Ltd | 48.50 | 37.96
Pneuma Asia Sourcing & Trading Co. LIMITED | Qingdao Haiyan Drouot Household Co., Ltd | 48.50 | 37.96
Putian Jinggong Furniture Co., Ltd | Putian Jinggong Furniture Co., Ltd | 48.50 | 37.96
Qingdao Coomex Sources Co., Ltd. also known as Coomex Sources Co., Ltd | Nantong Aershin Cabinets Co., Ltd | 48.50 | 37.96
Qingdao Haiyan Drouot Household Co., Ltd | Qingdao Haiyan Drouot Household Co., Ltd | 48.50 | 37.96
Qingdao Liangmu Hongye Co., Ltd | Qingdao Liangmu Hongye Co., Ltd | 48.50 | 37.96
Qingdao Liangmu Jinshan Woodwork Co., Ltd | Qingdao Liangmu Jinshan Woodwork Co., Ltd | 48.50 | 37.96
Qingdao Northriver Wooden Resource Industry & Trading Co., Ltd | Lankao Sanqiang Wooden Products Co., Ltd | 48.50 | 37.96
Qingdao Northriver Wooden Resource Industry & Trading Co., Ltd | Linyi Lanshan Chengxinli Woods Co., Ltd | 48.50 | 37.96
Qingdao Northriver Wooden Resource Industry & Trading Co., Ltd | Shouguang Shi Qifeng Woods Co., Ltd | 48.50 | 37.96
Qingdao Northriver Wooden Resource Industry & Trading Co., Ltd | Linyi Mingzhu Woods Co., Ltd | 48.50 | 37.96
Qingdao Northriver Wooden Resource Industry & Trading Co., Ltd | Yichun Senhai Woods Industry Co., Ltd | 48.50 | 37.96
Qingdao Northriver Wooden Resource Industry & Trading Co., Ltd | Linyi Jinde Arts&Crafts Co., Ltd | 48.50 | 37.96
Qingdao Northriver Wooden Resource Industry & Trading Co., Ltd | Qingdao Ruirong Woods Co., Ltd | 48.50 | 37.96
Qingdao Shousheng Industry Co., Ltd | Qingdao Shousheng Industry Co., Ltd | 48.50 | 37.96
Qingdao Yimei Wood Work Co., Ltd | Qingdao Yimei Wood Work Co., Ltd | 48.50 | 37.96
QINGDAOHONGXINCHENGDA WOOD INDUSTRY CO., LTD | QINGDAOHONGXINCHENGDA WOOD INDUSTRY CO., LTD | 48.50 | 37.96
QUFU XINYU FURNITURE CO., LTD | QUFU XINYU FURNITURE CO., LTD | 48.50 | 37.96
Ronbow Hong Kong Limited | Wuxi Yusheng Kitchen-Bathroom Equipment Co., Ltd | 48.50 | 37.96
Sagarit Bathroom Manufacturer Limited | Shouguang Fushi Wood Co., Ltd | 48.50 | 37.96
Sagarit Bathroom Manufacturer Limited | Zhangzhou Guohui Industrial & Trade Co., Ltd | 48.50 | 37.96
Sagarit Bathroom Manufacturer Limited | Qingdao Runpeng Wood Industrial Co., Ltd | 48.50 | 37.96
Sankok Arts Co., Ltd | Sankok Arts Co., Ltd | 48.50 | 37.96
Senke Manufacturing Company | Qindao Yimei Wood Work Co., Ltd | 48.50 | 37.96
Senke Manufacturing Company | Linyi Kaipu Furniture Co., Ltd | 48.50 | 37.96
Senke Manufacturing Company | Shandon Honsoar Cabinetry Co., Ltd | 48.50 | 37.96
Senke Manufacturing Company | Huimin Hanlong Furniture Co, Ltd | 48.50 | 37.96
Shandong Cubic Alpha Timber Co., Ltd | Shandong Cubic Alpha Timber Co., Ltd | 48.50 | 37.96
Shandong Fusheng Wood Co., Ltd | Shandong Fusheng Wood Co., Ltd | 48.50 | 37.96
Shandong Huanmei Wood Co., Ltd | Shandong Huanmei Wood Co., Ltd | 48.50 | 37.96
SHANDONG JINGYAO HOME DECORATION PRODUCTS CO., LTD | SHANDONG JINGYAO HOME DECORATION PRODUCTS CO., LTD | 48.50 | 37.96
Shandong Longsen Woods Co., Ltd | Shandong Longsen Woods Co., Ltd | 48.50 | 37.96
Shandong Sanfortune Home and Furniture Co., Ltd | Shandong Sanfortune Home and Furniture Co., Ltd | 48.50 | 37.96
Shanghai Aiwood Home Supplies Co., Ltd | Jiangsu Gangxing Kitchen Cabinet Co., Ltd | 48.50 | 37.96
Shanghai Aiwood Home Supplies Co., Ltd | Shanghai Homebase SanSheng Household Product Co., Ltd | 48.50 | 37.96
Shanghai Baiyulan Furniture Co., Ltd | Kunshan Baiyulan Furniture Co., Ltd | 48.50 | 37.96
Shanghai Beautystar Cabinetry Co., Ltd | Jiangsu Sunwell Cabinetry Co., Ltd | 48.50 | 37.96
Shanghai Beautystar Cabinetry Co., Ltd | Nantong Jiegao Furniture Co., Ltd | 48.50 | 37.96
Shanghai Jiang Feng Furniture Co., Ltd | Shanghai Jiang Feng Furniture Co., Ltd | 48.50 | 37.96
SHANGHAI LINE KING INTERNATIONAL TRADING CO., LTD | SHANGHAI YAZHI WOODEN INDUSTRY CO., LTD | 48.50 | 37.96
Shanghai Mebo Industry Co. Ltd | Shanghai Mebo Industry Co. Ltd | 48.50 | 37.96
Shanghai Qingzhou Woodenware Co., Ltd | Shanghai Qingzhou Woodenware Co., Ltd | 48.50 | 37.96
Shanghai S&M Trade Co., Ltd | Anhui GeLun Wood Industry Co., Ltd | 48.50 | 37.96
Shanghai S&M Trade Co., Ltd | Ning'an City Jiude Wood Co., Ltd | 48.50 | 37.96
Shanghai S&M Trade Co., Ltd | Muling City Bamiantong Forestry Bureau Jisen Wood Co., Ltd | 48.50 | 37.96
Shanghai S&M Trade Co., Ltd | Dalian Ruiyu Mountain Wood Co., Ltd | 48.50 | 37.96
Shanghai S&M Trade Co., Ltd | Linshu Meibang Furniture Co., Ltd | 48.50 | 37.96
Shanghai S&M Trade Co., Ltd | Jiamusi City Quanhong Wood Industry Co., Ltd | 48.50 | 37.96
Shanghai S&M Trade Co., Ltd | Kunshan Fangs Furniture Co., Ltd | 48.50 | 37.96
Shanghai S&M Trade Co., Ltd | Dalian Chunyao Wood Industry Co., Ltd | 48.50 | 37.96
Shanghai S&M Trade Co., Ltd | Anhui Juxin Wood Industry Co., Ltd | 48.50 | 37.96
Shanghai Wang Lei Industries- Taicang Branch | Shanghai Wang Lei Industries- Taicang Branch | 48.50 | 37.96
Shanghai Wen Bo Industries Co. Ltd | Shanghai Yinbo Manufacturing Co. Ltd | 48.50 | 37.96
Shanghai Wen Bo Industries Co. Ltd | Dalian Jiaye Wood Products Co., Ltd | 48.50 | 37.96
Shanghai Wen Bo Industries Co. Ltd | Shanghai Baiyulan Furniture Co., Ltd | 48.50 | 37.96
Shanghai Xietong (Group) Co., Ltd | Nantong Jiegao Furniture Co., Ltd | 48.50 | 37.96
Shanghai Xietong (Group) Co., Ltd | Jiangsu Senwei Smart Home Co., Ltd | 48.50 | 37.96
SHANGHAI ZIFENG INTERNATIONAL TRADING CO., LTD | SHANDONG GAINVAST WOODEN PRODUCTS CO., LTD | 48.50 | 37.96
SHANGHAI ZIFENG INTERNATIONAL TRADING CO., LTD | SHANGHAI WENYI WOODEN CO., LTD | 48.50 | 37.96
SHANGHAI ZIFENG INTERNATIONAL TRADING CO., LTD | NAN TONG DI LIN FURNITURE CO., LTD | 48.50 | 37.96
SHANGHAI ZIFENG INTERNATIONAL TRADING CO., LTD | JIANGSU YANAN WOODEN CO., LTD | 48.50 | 37.96
Sheen Lead International Trading (Shanghai)Co., Ltd | SHANGHAI RUIYING FURNITURE CO., LTD | 48.50 | 37.96
Shouguang Fushi Wood Co., Ltd | Shouguang Fushi Wood Co., Ltd | 48.50 | 37.96
Shouguang Honsoar Imp. & Exp. Trading Co., Ltd | Shandong Honsoar Cabinet Materials Co., Ltd | 48.50 | 37.96
SHOUGUANG JIAXIU WOOD CO., LTD | SHOUGUANG JIAXIU WOOD CO., LTD | 48.50 | 37.96
SHOUGUANG JIAXIU WOOD CO., LTD | SHOUGUANG JIAXIU WOOD CO., LTD | 48.50 | 37.96
Shouguang Jinxiangyuan Home Furnishing Co., Ltd | Shouguang Jinxiangyuan Home Furnishing Co., Ltd | 48.50 | 37.96
Shouguang Sanyang Wood Industry Co., Ltd | Shouguang Sanyang Wood Industry Co., Ltd | 48.50 | 37.96
Silver Stone Group Co., Ltd | QINGDAO FAMILY CRAFTS CO., LTD | 48.50 | 37.96
Silver Stone Group Co., Ltd | QingDao XiuZhen Furniture Co., Ltd | 48.50 | 37.96
Smart Gift International | Anhui GeLun Wood Industry Co., Ltd | 48.50 | 37.96
Smart Gift International | Ning'an City Jiude Wood Co., Ltd | 48.50 | 37.96
Smart Gift International | Muling City Bamiantong Forestry Bureau Jisen Wood Co., Ltd | 48.50 | 37.96
Smart Gift International | Dalian Ruiyu Mountain Wood Co., Ltd | 48.50 | 37.96
Smart Gift International | Jiamusi City Quanhong Wood Industry Co., Ltd | 48.50 | 37.96
Smart Gift International | Dalian Chunyao Wood Industry Co., Ltd | 48.50 | 37.96
SUNCO TIMBER(KUNSHAN) CO., LTD | SUNCO TIMBER(KUNSHAN) CO., LTD | 48.50 | 37.96
Supree (Fujian) Wood Co., Ltd | Supree (Fujian) Wood Co., Ltd | 48.50 | 37.96
Supree (Fujian) Construction Materials Co., Ltd | Supree (Fujian) Construction Materials Co., Ltd | 48.50 | 37.96
SUZHOU BAOCHENG INDUSTRIES CO., LTD | WALLBEYOND (SHUYANG) HOME DECOR CO., LTD | 48.50 | 37.96
Suzhou Five Cubic Wood Co., Ltd | Suzhou Geda Office Equipment Manufacturing Co., Ltd | 48.50 | 37.96
Suzhou Oriental Dragon Import and Export Co., Ltd. also known as Suzhou Oriental Dragon Import and Export Corp., Ltd | Lingbi Xianghe Wood Co., Ltd | 48.50 | 37.96
Tai Yuan Trading Co., Ltd also known as Heshan Tai Yuan Trading Co., Ltd | Heshan Yingmei Cabinet Co., Ltd | 48.50 | 37.96
Taishan Changfa Wood Industry Co., Ltd | Taishan Changfa Wood Industry Co., Ltd | 48.50 | 37.96
TAISHAN HONGXIANG TRADING CO., LTD | Chang He Xing Wood Manufacturer Co., Ltd | 48.50 | 37.96
TAISHAN HONGXIANG TRADING CO., LTD | Heshan Yingmei Cabinets Co., Ltd | 48.50 | 37.96
TAISHAN HONGXIANG TRADING CO., LTD | Heshan Feiqiu Cabinet Co., Ltd | 48.50 | 37.96
TAISHAN HONGXIANG TRADING CO., LTD | Yuanwang Wood Product Factory Dajiang Taishan | 48.50 | 37.96
TAISHAN HONGXIANG TRADING CO., LTD | Can-Am Cabinet Ltd | 48.50 | 37.96
Taishan Hongzhou Cabinet Co., Ltd | Taishan Hongzhou Cabinet Co., Ltd | 48.50 | 37.96
Taishan Jiahong Trade Co., Ltd | Taishan Dajiang Town Dutou Wood Furniture Factory | 48.50 | 37.96
Taishan Jiahong Trade Co., Ltd | Foshan Nanhai Jinwei Cabinet Furniture Co., Ltd | 48.50 | 37.96
Taishan Jiahong Trade Co., Ltd | Taishan Huali Kitchen Cabinet Co., Ltd | 48.50 | 37.96
Taishan Jiahong Trade Co., Ltd | Taishan Empire Wood Co., Ltd | 48.5 | 37.96
TAISHAN OVERSEA TRADING COMPANY LTD | TAISHAN GANHUI STONE KITCHEN CO., LTD | 48.50 | 37.96
TAISHAN OVERSEA TRADING COMPANY LTD | Can-Am Cabinet Ltd | 48.50 | 37.96
TAISHAN OVERSEA TRADING COMPANY LTD | TAISHAN QUANMEI KITCHEN WARE CO., LTD | 48.50 | 37.96
TAISHAN OVERSEA TRADING COMPANY LTD | TAISHAN JIAFU CABINET CO., LTD | 48.50 | 37.96
TAISHAN OVERSEA TRADING COMPANY LTD | TAISHAN DAJIANG TOWN DUTOU FURNITURE FACTORY | 48.50 | 37.96
TAISHAN OVERSEA TRADING COMPANY LTD | Feiteng Kitchen Cabinets Taishan Corporation | 48.50 | 37.96
Taizhou Overseas Int'l Ltd | Zhejiang Royal Home Co., Ltd | 48.50 | 37.96
TANGSHAN BAOZHU FURNITURE CO., LTD | TANGSHAN BAOZHU FURNITURE CO.FF0C;LTD | 48.50 | 37.96
Tech Forest Cabinetry Co., Ltd | Tech Forest Cabinetry Co., Ltd | 48.50 | 37.96
The Frame Manufacturing Co. Ltd | HUIZHOU DIWEIXIN JIATINGYONGPIN CO., LTD | 48.50 | 37.96
Top Goal International Group Ltd. (Hong Kong) | Dongguan City Top Goal Furniture Co., Ltd | 48.50 | 37.96
Tradewinds Furniture Ltd | Tradewinds Furniture Ltd | 48.50 | 37.96
Wa Fok Art Craft Furniture (MACAO) Co., Ltd | Zhongshan Huafu Art Craft Furniture Co., Ltd | 48.50 | 37.96
Weifang Fuxing Wood Co., Ltd | Weifang Fuxing Wood Co., Ltd | 48.50 | 37.96
WEIFANG KITCHINET CORPORATION | WEIFANG KITCHINET CORPORATION | 48.50 | 37.96
Weifang Lan Gu Wood Industry Co., Ltd | Weifang Lan Gu Wood Industry Co., Ltd | 48.50 | 37.96
Weifang Master Wood Industry Co., Ltd | Weifang Master Wood Industry Co., Ltd | 48.50 | 37.96
Weifang Yuanlin Woodenware Co., Ltd | Weifang Yuanlin Woodenware Co., Ltd | 48.50 | 37.96
Weihai Adornus Cabinetry Manufacturing Co., Ltd | Weihai Adornus Cabinetry Manufacturing Co., Ltd | 48.50 | 37.96
WEIHAI JARLIN CABINETRY MANUFACTURE CO., LTD | WEIHAI JARLIN CABINETRY MANUFACTURE CO., LTD | 48.50 | 37.96
Wellday International Company Limited also known as Dongguan Wellday Household Co., Ltd | Wellday International Company Limited also known as Dongguan Wellday Household Co., Ltd | 48.50 | 37.96
Wenzhou Youbo Industrial Co., Ltd | Wenzhou Youbo Industrial Co., Ltd | 48.50 | 37.96
Wuxi Yushea Furniture Co., Ltd | Wuxi Yushea Furniture Co., Ltd | 48.50 | 37.96
Wuxi Yusheng Kitchen-Bathroom Equipment Co., Ltd | Wuxi Yusheng Kitchen-Bathroom Equipment Co., Ltd | 48.50 | 37.96
Xiamen Adler Cabinetry Co., Ltd | Xiamen Adler Cabinetry Co., Ltd | 48.50 | 37.96
XIAMEN GOFOR STONE CO., LTD | KAICHENG (FUJIAN) KITCHEN CABINET CO., LTD | 48.50 | 37.96
XIAMEN GOLDEN HUANAN IMP.& EXP. CO., LTD | Changtai Guanjia Industrial Co., Ltd | 48.50 | 37.96
XIAMEN GOLDENHOME CO., LTD | XIAMEN GOLDENHOME CO., LTD | 48.50 | 37.96
XIAMEN KAICHENG TRADING LIMITED COMPANY | KAICHENG (FUJIAN) KITCHEN CABINET CO., LTD | 48.50 | 37.96
Xiamen Sintop Display Fixtures Co., Ltd | Xiamen Sintop Display Fixtures Co., Ltd | 48.50 | 37.96
XINGZHI INTERNATIONAL TRADE LIMITED | XUZHOU YIHE WOOD CO., LTD | 48.50 | 37.96
XUZHOU JIA LI DUO IMPORT&EXPORT CO., LTD | XUZHOU OUMEC WOOD-BASED PANEL CO., LTD | 48.50 | 37.96
XUZHOU YIHE WOOD CO., LTD | XUZHOU YIHE WOOD CO., LTD | 48.50 | 37.96
YEKALON INDUSTRY, INC | DONGGUAN TODA FURNITURE CO., LTD | 48.50 | 37.96
YEKALON INDUSTRY, INC | GUANGZHOUSHI BAISEN DECORATIVE MATERIALS COMPANY LIMITED | 48.50 | 37.96
YEKALON INDUSTRY, INC | DONGGUAN FANYANUO FURNITURE CO., LTD | 48.50 | 37.96
YEKALON INDUSTRY, INC | DONGGUANSHI ANKE BUILDING MATERIALS CO., LTD | 48.50 | 37.96
YEKALON INDUSTRY, INC | Oriental Chic Furniture Company Limited | 48.50 | 37.96
YEKALON INDUSTRY, INC | DONGGUAN FRANCISS FURNITURE CO., LTD | 48.50 | 37.96
YEKALON INDUSTRY, INC | SHANGHAI YUANYANG WOODEN CO., LTD | 48.50 | 37.96
Yi Sen Wood Industry Limited Company of Ning An City | Yi Sen Wood Industry Limited Company of Ning An City | 48.50 | 37.96
Yichun Dongmeng Wood Co., Ltd | Yichun Dongmeng Wood Co., Ltd | 48.50 | 37.96
Yichun Dongmeng Wood Co., Ltd | Qingdao Dimei Wood Co., Ltd | 48.50 | 37.96
Yichun Sunshine Wood Products Co., Ltd | Yichun Sunshine Wood Products Co., Ltd | 48.50 | 37.96
Yixing Pengjia Cabinetry Co. Ltd | Yixing Pengjia Cabinetry Co. Ltd | 48.50 | 37.96
Zhangjiagang Daye Hotel Furniture Co., Ltd | Zhangjiagang Daye Hotel Furniture Co., Ltd | 48.50 | 37.96
ZHANGJIAGANG PRO-FIXTURE CO., LTD | Zhangjiagang Yuanjiahe Home Furniture Co., Ltd | 48.50 | 37.96
ZHANGZHOU CITY XIN JIA HUA FURNITURE CO., LTD | ZHANGZHOU CITY XIN JIA HUA FURNITURE CO., LTD | 48.50 | 37.96
Zhangzhou Guohui Industrial & Trade Co., Ltd | Zhangzhou Guohui Industrial & Trade Co., Ltd | 48.50 | 37.96
Zhangzhou OCA Furniture Co., Ltd | Zhangzhou OCA Furniture Co., Ltd | 48.50 | 37.96
Zhaoqing Centech Decorative Material Company Ltd | Zhaoqing Centech Decorative Material Company Ltd | 48.50 | 37.96
Zhejiang Jindi Holding Group Co., Ltd | Zhejiang Jindi Holding Group Co., Ltd | 48.50 | 37.96
Zhong Shan Shi Yicheng Furniture & Craftwork Co., Ltd | Zhong Shan Shi Yicheng Furniture & Craftwork Co., Ltd | 48.50 | 37.96
Zhong Shan Yue Qin Imp. & Exp. Co., Ltd | Zhongshan Jinpeng Furniture Co., Ltd | 48.50 | 37.96
Zhongshan City Shenwan Meiting Furniture Factory | Zhongshan City Shenwan Meiting Furniture Factory | 48.50 | 37.96
Zhongshan Fookyik Furniture Co., Ltd | Zhongshan Fookyik Furniture Co., Ltd | 48.50 | 37.96
ZHONGSHAN GAINWELL FURNITURE CO., LTD | ZHONGSHAN GAINWELL FURNITURE CO., LTD | 48.50 | 37.96
Zhongshan Guanda Furniture Manufacturing Co., Ltd also known as Guanda Furniture Co., Ltd | Zhongshan Guanda Furniture Manufacturing Co., Ltd | 48.50 | 37.96
ZHONGSHAN HENGFU FURNITURE COMPANY LIMITED | ZHONGSHAN HENGFU FURNITURE COMPANY LIMITED | 48.50 | 37.96
Zhongshan King's Group Furniture (ENTERPRISES) Co., Ltd | Zhongshan King's Group Furniture (ENTERPRISES) Co., Ltd | 48.50 | 37.96
Zhoushan For-strong Wood Co., Ltd | Zhoushan For-strong Wood Co., Ltd | 48.50 | 37.96
Zhoushan For-strong Wood Co., Ltd | Shanghai Wanmuda Furniture Co., Ltd | 48.50 | 37.96
Zhucheng Tonghe Woodworks Co., ltd | Zhucheng Tonghe Woodworks Co., ltd | 48.50 | 37.96
Zhuhai Seagull Kitchen and Bath Products Co., Ltd | Zhuhai Seagull Kitchen and Bath Products Co., Ltd | 48.50 | 37.96
ZIEL INTERNATIONAL CO., LIMITED | DONGGUAN FANG CHENG FURNITURE LTD | 48.50 | 37.96
ZIEL INTERNATIONAL CO., LIMITED | ZhongShan PRO-YEARN Crafts Product Co., Ltd | 48.50 | 37.96
ZIEL INTERNATIONAL CO., LIMITED | FUJIAN NEWMARK INDUSTRIAL CO., LTD | 48.50 | 37.96
ZIEL INTERNATIONAL CO., LIMITED | Fuzhou Zhonghe Houseware CO., LTD | 48.50 | 37.96
ZIEL INTERNATIONAL CO., LIMITED | MING LIANG FURNITURE PRODUCT CO., LTD | 48.50 | 37.96
ZIEL INTERNATIONAL CO., LIMITED | XIANJU JUNYANG HOUSEHOLD PRODUCTS CO., LTD | 48.50 | 37.96
ZIEL INTERNATIONAL CO., LIMITED | DongGuan HeTai Homewares CO., LTD | 48.50 | 37.96
ZIEL INTERNATIONAL CO., LIMITED | CHENG TONG HARDWARE PRODUCT LTD | 48.50 | 37.96
ZIEL INTERNATIONAL CO., LIMITED | Nantong Jon Ergonomic Office Co., Ltd | 48.50 | 37.96
China-Wide Entity |  | 262.18 | 251.64

Suspension of Liquidation

Suspension of liquidation and cash deposit rates for all producers and exporters of subject merchandise from China are unaffected by this correction notice. Refer to the Final Determination for the suspension instructions in effect at the time of the issuance of this notice.

Public Comment

Commerce is not accepting public comments in response to this corrected final determination.

International Trade Commission Notification

In accordance with section 735(d) of the Act, Commerce will notify the International Trade Commission of this correction notice.

Notification to Interested Parties

This corrected final determination is issued and published in accordance with sections 735(d) and 777(i)(1) of the Tariff Act of 1930, as amended, and 19 CFR 351.210(c).

Dated: March 25, 2020.
Jeffrey I. Kessler,
Assistant Secretary for Enforcement and Compliance.

[FR Doc. 2020-06645 Filed 3-30-20; 8:45 am]

BILLING CODE 3510-DS-P